DEPARTMENT OF AGRICULTURE

U.S. Codex Office

Codex Alimentarius Commission: Meeting of the Codex Committee on Spices and Culinary Herbs

AGENCY: U.S. Codex Office, USDA.

ACTION: Notice of public meeting and request for comments.

SUMMARY: The U.S Codex Office is sponsoring a public meeting on August 22, 2022. The objective of the public meeting is to provide information and receive public comments on agenda items and draft United States (U.S.) positions to be discussed at the 6th Session of the Codex Committee on Spices and Culinary Herbs (CCSCH) of the Codex Alimentarius Commission (CAC), which will convene virtually, September 26-October 3, 2022. The U.S. Manager for Codex Alimentarius and the Acting Deputy Under Secretary for Trade and Foreign Agricultural Affairs recognize the importance of providing interested parties the opportunity to obtain background information on the 6th Session of the CCSCH and to address items on the agenda.

DATES: The public meeting is scheduled for August 22, 2022, from 1:00-2:30 p.m. EDT.

ADDRESSES: The public meeting will take place via Video Teleconference only. Documents related to the 6th Session of the CCSCH will be accessible via the internet at the following address: https://www.fao.org/fao-who-codexalimentarius/meetings/detail/en/?meeting=CCSCH&session=6.

Mr. Dorian LaFond, U.S. Delegate to the 6th Session of the CCSCH, invites U.S. interested parties to submit their comments electronically to the following email address: dorian.lafond@usda.gov.

Registration: Attendees must register to attend the public meeting here: https://www.zoomgov.com/meeting/register/vJIsc--rqDwrHUQoI8la985vjKzMsfUOnFA. After registering, you will receive a confirmation email containing information about joining the meeting.

FOR FURTHER INFORMATION CONTACT:

For further information about the 6th Session of the CCSCH, contact: U.S. Delegate, Mr. Dorian LaFond, dorian.lafond@usda.gov, +1 (202) 690-4944.

For further information about the public meeting, contact: U.S. Codex Office, 1400 Independence Avenue SW, Room 4861, South Agriculture Building, Washington, DC 20250. Phone +1 (202) 720-7760, Fax: +1 (202) 720-3157, Email: uscodex@usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Spices and Culinary Herbs (CCSCH) are:

(a) To elaborate worldwide standards for spices and culinary herbs in their dried and dehydrated state in whole, ground, and cracked or crushed form;

(b) To consult, as necessary, with other international organizations in the standards development process to avoid duplication.

The CCSCH is hosted by India. The United States attends the CCSCH as a member country of Codex.

Issues To Be Discussed at the Public Meeting

The following items from the forthcoming Agenda for the 6th Session of the CCSCH will be discussed during the public meeting:

• Matters referred to the Committee by the Codex Alimentarius Commission and/or its subsidiary bodies

• Draft standard for saffron

• Draft standard for dried nutmeg

• Proposed draft standard for dried chili peppers and paprika

• Proposed draft standard for small cardamom

• Proposed draft standard for spices in dried fruits and berries (allspices, juniper berry, star anise and vanilla)

• Proposed draft standard for turmeric

• Consideration of the proposals for new work

• Update to the template for SCH standards

• Date and place of the next session

Public Meeting

At the August 22, 2022, public meeting, draft U.S. positions on the agenda items will be described and discussed, and attendees will have the opportunity to pose questions and offer comments. Written comments may be offered at the meeting or sent to Mr. Dorian LaFond, U.S. Delegate for the 6th Session of the CCSCH (see ADDRESSES). Written comments should state that they relate to activities of the 6th Session of the CCSCH.

Additional Public Notification

Public awareness of all segments of rulemaking and policy development is important. Consequently, the U.S. Codex Office will announce this Federal Register publication on-line through the USDA web page located at: https://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/sites/default/files/documents/ad-3027.pdf, or write a letter signed by you or your authorized representative. Send your completed complaint form or letter to USDA by mail, fax, or email.

Mail: U.S. Department of Agriculture, Director, Office of Adjudication, 1400 Independence Avenue SW, Washington, DC 20250-9410.

Fax: +1 (202) 690-7442, Email: program.intake@usda.gov.

Persons with disabilities who require alternative means for communication (Braille, large print, audiotape, American Sign Language, etc.) should contact USDA's TARGET Center at +1 (202) 720-2600 (voice and TDD).

Done at Washington, DC, on May 27, 2022.
Mary Frances Lowe,
U.S. Manager for Codex Alimentarius.

[FR Doc. 2022-11859 Filed 6-1-22; 8:45 am]

BILLING CODE P